DEPARTMENT OF HEALTH AND HUMAN SERVICES

Food and Drug Administration

[Docket No. FDA-1999-D-0742 (formerly Docket No. 1999D-4396)]

Draft Guidance for Clinical Investigators, Industry, and FDA Staff: Financial Disclosure by Clinical Investigators; Correction

AGENCY: Food and Drug Administration, HHS.

ACTION: Notice; correction.

SUMMARY: The Food and Drug Administration (FDA) is correcting a notice that appeared in the Federal Register of May 24, 2011 (76 FR 30175). The document announced the availability of a draft guidance entitled “ Draft Guidance for Clinical Investigators, Industry, and FDA Staff: Financial Disclosure by Clinical Investigators.”The document was published with an incorrect docket number. This document corrects that error.

FOR FURTHER INFORMATION CONTACT: Joyce Strong, Office of Policy, Food and Drug Administration, 10903 New Hampshire Ave., Bldg. 32, Rm. 3208, Silver Spring, MD 20993-0002, 301-796-9148.

SUPPLEMENTARY INFORMATION: In FR Doc. 2011-12623, appearing on page 30175, in the Federal Register of Tuesday, May 24, 2011, the following correction is made:

1. On page 30175, in the second column, in the Docket No. heading, “[Docket No. FDA-1999-D-0792] (Formerly FDA-1999-D-0792)” is corrected to read “[Docket No. FDA-1999-D-0742] (formerly Docket No. 1999D-4396)”.

Dated: May 31, 2011.
Leslie Kux,
Acting Assistant Commissioner for Policy.

[FR Doc. 2011-13871 Filed 6-3-11; 8:45 am]

BILLING CODE 4160-01-P